DEPARTMENT OF DEFENSE

Office of the Secretary

TRICARE, Formerly Known as the Civilian Health and Medical Program of the Uniformed Services; Calendar Year 2013 TRICARE Young Adult Program Premium Update

AGENCY: Office of the Secretary of Defense, Department of Defense.

ACTION: Notice of Updated TRICARE Young Adult Premiums for Calendar Year 2013.

SUMMARY: This notice provides the updated TRICARE Young Adult program premiums for Calendar Year (CY) 2013.

DATES: The CY 2013 rates contained in this notice are effective for services on or after January 1, 2013.

ADDRESSES: TRICARE Management Activity, Policy and Benefits Branch, 7700 Arlington Boulevard, Suite 5101, Falls Church, Virginia 22042-5101.

FOR FURTHER INFORMATION CONTACT: Mr. Mark A. Ellis, (703) 681-0039.

SUPPLEMENTARY INFORMATION: The interim final rule published in the Federal Register (FR) on April 27, 2011 (76 FR 23479-23485) set forth rules to implement the TRICARE Young Adult (TYA) program as required by Title 10, United States Code, Section 1110b. Included in this interim final rule were provisions for updating the TYA premiums for each CY. By law, qualified young adult dependents are charged TYA premiums that represent the full government cost of providing such coverage. Until premiums can be based on actual current year TYA costs, TYA premiums are based on the actual costs during preceding CYs for providing benefits to a similarly aged group of dependents that are TRICARE eligible.

TRICARE Management Activity has updated the monthly premiums for CY 2013 as shown below:

Monthly TYA Premiums for CY 2013
Type of coverage | Monthly rate
TRICARE Standard Plans | $152
TRICARE Prime Plans | 176

The above premiums are effective for services rendered on or after January 1, 2013.

Dated: September 17, 2012.
Aaron Siegel,
Alternate OSD Federal Register Liaison Officer, Department of Defense.

[FR Doc. 2012-23251 Filed 9-19-12; 8:45 am]

BILLING CODE 5001-06-P